DEPARTMENT OF LABOR

Employment and Training Administration

[TA-W-82,165D]

Interstate Brands Corporation (IBC); a Wholly Owned Subsidiary of Hostess Brands, Inc.; Including On-Site Leased Workers From Cortech, LLC; Operating at Locations Throughout the State of Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on February 19, 2013, applicable to workers of Interstate Brands Corporation (IBC), a wholly owned subsidiary of Hostess Brands, Inc., operating at locations throughout the state of Arkansas (TA-W-82,165D). The Department's notice of determination was published in the Federal Register on February 25, 2013 (78 FR 12795).

At the request of a state workforce office, the Department reviewed the certification for workers of the subject firm. The workers were engaged in activities related to the production of baked goods such as bread, buns, rolls, snack cakes, doughnuts, sweet rolls and similar products.

The company reports that workers leased from CorTech, LLC were employed on-site at the West Helena, Arkansas location of Interstate Brands Corporation (IBC), a wholly owned subsidiary of Hostess Brands, Inc.. The Department has determined that these workers were sufficiently under the control of the subject firm to be considered leased workers.

Based on these findings, the Department is amending this certification to include workers leased from CorTech, LLC working on-site at the West Helena, Arkansas location of Interstate Brands Corporation (IBC), a wholly owned subsidiary of Hostess Brands, Inc.

The amended notice applicable to TA-W-82,165 is hereby issued as follows:

“All workers of Interstate Brands Corporation (IBC), a wholly owned subsidiary of Hostess Brands, Inc., operating at locations throughout the state of Michigan (TA-W-82,165); Interstate Brands Corporation (IBC), a wholly owned subsidiary of Hostess Brands, Inc., operating at locations throughout the state of Alabama (TA-W-82,165A); Interstate Brands Corporation (IBC), a wholly owned subsidiary of Hostess Brands, Inc., operating at locations throughout the state of Alaska (TA-W-82,165B); Interstate Brands Corporation (IBC), a wholly owned subsidiary of Hostess Brands, Inc., operating at locations throughout the state of Arizona (TA-W-82,165C); Interstate Brands Corporation (IBC), a wholly owned subsidiary of Hostess Brands, Inc., including on-site leased workers from CorTech, LLC, operating at locations throughout the state of Arkansas (TA-W-82,165D); Interstate Brands Corporation (IBC), a wholly owned subsidiary of Hostess Brands, Inc., operating at locations throughout the state of California (TA-W-82,165E), excluding workers of Hostess Brands, Inc., field accounting organization, Sacremento, California (TA-W-81,029S); Interstate Brands Corporation (IBC), a wholly owned subsidiary of Hostess Brands, Inc., including on-site leased workers from Professional Drivers of Georgia, Inc. dba Prodrivers, operating at locations throughout the state of Colorado (TA-W-82,165F); Interstate Brands Corporation (IBC), a wholly owned subsidiary of Hostess Brands, Inc., operating at locations throughout the state of Connecticut (TA-W-82,165G); Interstate Brands Corporation (IBC), a wholly owned subsidiary of Hostess Brands, Inc., operating at locations throughout the state of Delaware (TA-W-82,165H); Interstate Brands Corporation (IBC), a wholly owned subsidiary of Hostess Brands, Inc., operating at locations throughout the state of Florida (TA-W-82,165I) excluding workers of Hostess Brands, Inc., field accounting organization, Jacksonville, Florida (TA-W-81,029P) and Orlando, Florida (TA-W-81,029R); Interstate Brands Corporation (IBC), a wholly owned subsidiary of Hostess Brands, Inc., operating at locations throughout the state of Georgia (TA-W-82,165J) excluding workers of Hostess Brands, Inc., field accounting organization, Columbus, Georgia (TA-W-81,029Q); Interstate Brands Corporation (IBC), a wholly owned subsidiary of Hostess Brands, Inc., operating at locations throughout the state of Idaho (TA-W-82,165K); Interstate Brands Corporation (IBC), a wholly owned subsidiary of Hostess Brands, Inc., including on-site leased workers from Stivers Temporary Personnel, operating at locations throughout the state of Illinois (TA-W-82,165L) excluding workers of Hostess Brands, Inc., field accounting organization, Hodgkins, Illinois (TA-W-81,029A) and Peoria, Illinois (TA-W-81,029B); Interstate Brands Corporation (IBC), a wholly owned subsidiary of Hostess Brands, Inc., operating at locations throughout the state of Indiana (TA-W-82,165M) excluding workers of Hostess Brands, Inc., field accounting organization, Indianapolis, Indiana (TA-W-81,029J); Interstate Brands Corporation (IBC), a wholly owned subsidiary of Hostess Brands, Inc., operating at locations throughout the state of Iowa (TA-W-82,165N) excluding workers of Hostess Brands, Inc., field accounting organization, Davenport, Iowa (TA-W-81,029C); Interstate Brands Corporation (IBC), a wholly owned subsidiary of Hostess Brands, Inc., including on-site leased workers from Anytime Labor KC Metro, LLC, and The Arnold Group, operating at locations throughout the state of Kansas (TA-W-82,165O) excluding workers of Hostess Brands, Inc., field accounting organization, Emporia, Kansas (TA-W-81,029I); Interstate Brands Corporation (IBC), a wholly owned subsidiary of Hostess Brands, Inc., including on-site leased workers from Professional Drivers of Georgia, Inc. dba Prodrivers, operating at locations throughout the state of Kentucky (TA-W-82,165P); Interstate Brands Corporation (IBC), a wholly owned subsidiary of Hostess Brands, Inc., operating at locations throughout the state of Louisiana (TA-W-82,165Q) excluding workers of Hostess Brands, Inc., field accounting organization, Alexandria, Louisiana (TA-W-81,029D); Interstate Brands Corporation (IBC), a wholly owned subsidiary of Hostess Brands, Inc., operating at locations throughout the state of Maine (TA-W-82,165R) excluding workers of Hostess Brands, Inc., field accounting organization, Biddford, Maine (TA-W-81,029F); Interstate Brands Corporation (IBC), a wholly owned subsidiary of Hostess Brands, Inc., operating at locations throughout the state of Maryland (TA-W-82,165S); Interstate Brands Corporation (IBC), a wholly owned subsidiary of Hostess Brands, Inc., operating at locations throughout the state of Massachusetts (TA-W-82,165T); Interstate Brands Corporation (IBC), a wholly owned subsidiary of Hostess Brands, Inc., operating at locations throughout the state of Minnesota (TA-W-82,165U); Interstate Brands Corporation (IBC), a wholly owned subsidiary of Hostess Brands, Inc., operating at locations throughout the state of Mississippi (TA-W-82,165V); Interstate Brands Corporation (IBC), a wholly owned subsidiary of Hostess Brands, Inc., including on-site leased workers from Great Plains Technical Services, Ridgway's, LLC (ARC), Synergy Staffing Services, LLC., KForce Professional Staffing, and Accenture, LLP (including subcontractors), operating at locations throughout the state of Missouri (TA-W-82,165W) excluding workers of Hostess Brands, Inc., field accounting organization, St. Louis, Missouri (TA-W-81,029); Interstate Brands Corporation (IBC), a wholly owned subsidiary of Hostess Brands, Inc., including on-site leased workers from Bookkeeping By Design, operating at locations throughout the state of Montana (TA-W-82,165X) excluding workers of Hostess Brands, Inc., field accounting organization, Billings, Montana (TA-W-81,029T); Interstate Brands Corporation (IBC), a wholly owned subsidiary of Hostess Brands, Inc., operating at locations throughout the state of Nebraska (TA-W-82,165Y); Interstate Brands Corporation (IBC), a wholly owned subsidiary of Hostess Brands, Inc., operating at locations throughout the state of Nevada (TA-W-82,165Z); Interstate Brands Corporation (IBC), a wholly owned subsidiary of Hostess Brands, Inc., operating at locations throughout the state of New Hampshire (TA-W-82,165AA); Interstate Brands Corporation (IBC), a wholly owned subsidiary of Hostess Brands, Inc., operating at locations throughout the state of New Jersey (TA-W-82,165BB); Interstate Brands Corporation (IBC), a wholly owned subsidiary of Hostess Brands, Inc., operating at locations throughout the state of New York (TA-W-82,165CC); Interstate Brands Corporation (IBC), a wholly owned subsidiary of Hostess Brands, Inc., operating at locations throughout the state of North Carolina (TA-W-82,165DD) excluding workers of Hostess Brands, Inc., field accounting organization, Rocky Mount, North Carolina (TA-W-81,029M); Interstate Brands Corporation (IBC), a wholly owned subsidiary of Hostess Brands, Inc., operating at locations throughout the state of North Dakota (TA-W-82,165EE); Interstate Brands Corporation (IBC), a wholly owned subsidiary of Hostess Brands, Inc., operating at locations throughout the state of Ohio (TA-W-82,165FF) excluding workers of Hostess Brands, Inc., field accounting organization, Cincinnati, Ohio (TA-W-81,029E) and Northwood, Ohio (TA-W-81,029L); Interstate Brands Corporation (IBC), a wholly owned subsidiary of Hostess Brands, Inc., operating at locations throughout the state of Oklahoma (TA-W-82,165GG) excluding workers of Hostess Brands, Inc., field accounting organization, Tulsa, Oklahoma (TA-W-81,029H); Interstate Brands Corporation (IBC), a wholly owned subsidiary of Hostess Brands, Inc., operating at locations throughout the state of Oregon (TA-W-82,165HH); Interstate Brands Corporation (IBC), a wholly owned subsidiary of Hostess Brands, Inc., including on-site leased workers from Randstad Professional LP (Accounts International), operating at locations throughout the state of Pennsylvania (TA-W-82,165II) excluding workers of Hostess Brands, Inc., field accounting organization, Philadelphia, Pennsylvania (TA-W-81,029K); Interstate Brands Corporation (IBC), a wholly owned subsidiary of Hostess Brands, Inc., operating at locations throughout the state of Rhode Island (TA-W-82,165JJ); Interstate Brands Corporation (IBC), a wholly owned subsidiary of Hostess Brands, Inc., operating at locations throughout the state of South Carolina (TA-W-82,165KK); Interstate Brands Corporation (IBC), a wholly owned subsidiary of Hostess Brands, Inc., operating at locations throughout the state of South Dakota (TA-W-82,165LL); Interstate Brands Corporation (IBC), a wholly owned subsidiary of Hostess Brands, Inc., including on-site leased workers from Stinson Industrial Maintenance, operating at locations throughout the state of Tennessee (TA-W-82,165MM) excluding workers of Hostess Brands, Inc., field accounting organization, Knoxville, Tennessee (TA-W-81,029N) and Memphis, Tennessee (TA-W-81,029O); Interstate Brands Corporation (IBC), a wholly owned subsidiary of Hostess Brands, Inc., including on-site leased workers from The Insource Group, and Accenture LLP, operating at locations throughout the state of Texas (TA-W-82,165NN); Interstate Brands Corporation (IBC), a wholly owned subsidiary of Hostess Brands, Inc., operating at locations throughout the state of Utah (TA-W-82,165OO) excluding workers of Hostess Brands, Inc., field accounting organization, Odgen, Utah (TA-W-81,029G); Interstate Brands Corporation (IBC), a wholly owned subsidiary of Hostess Brands, Inc., operating at locations throughout the state of Vermont (TA-W-82,165PP); Interstate Brands Corporation (IBC), a wholly owned subsidiary of Hostess Brands, Inc., operating at locations throughout the state of Virginia (TA-W-82,165QQ); Interstate Brands Corporation (IBC), a wholly owned subsidiary of Hostess Brands, Inc., operating at locations throughout the state of Washington (TA-W-82,165RR) excluding workers of Hostess Brands, Inc., field accounting organization, Lakewood, Washington (TA-W-81,029U); Interstate Brands Corporation (IBC), a wholly owned subsidiary of Hostess Brands, Inc., operating at locations throughout the state of West Virginia (TA-W-82,165SS); Interstate Brands Corporation (IBC), a wholly owned subsidiary of Hostess Brands, Inc., operating at locations throughout the state of Wisconsin (TA-W-82,165TT), and Interstate Brands Corporation (IBC), a wholly owned subsidiary of Hostess Brands, Inc., operating at locations throughout the state of Wyoming (TA-W-82,165UU), who became totally or partially separated from employment on or after November 19, 2012, through February 19, 2015, and all workers in the group threatened with total or partial separation from employment on the date of certification through two years from the date of certification, are eligible to apply for adjustment assistance under Chapter 2 of Title II of the Trade Act of 1974, as amended.”

Signed in Washington, DC, this 19th day of August, 2013.
Michael W. Jaffe,
Certifying Officer, Office of Trade Adjustment Assistance.

[FR Doc. 2013-21427 Filed 9-3-13; 8:45 am]

BILLING CODE 4510-FN-P